DEPARTMENT OF TRANSPORTATION

Federal Aviation Administration

14 CFR Part 71

[Docket No. FAA-2020-0988 Airspace Docket No. 18-AWA-3]

RIN 2120-AA66

Amendment of Class C Airspace and Revocation of Class E Airspace Extension; Fort Lauderdale, FL

AGENCY: Federal Aviation Administration (FAA), DOT.

ACTION: Final rule.

SUMMARY: This action reconfigures and expands the Fort Lauderdale-Hollywood International Airport, FL (FLL), Class C airspace area. The FAA is taking this action to reduce the risk of midair collisions and enhance the efficient management of air traffic operations in the FLL terminal area. This action also updates the FLL Airport Reference Point (ARP) latitude/longitude geographic coordinates to match current airspace database information. Additionally, this action revokes the Class E airspace extension to the FLL Class C airspace surface area. This action is separate and distinct from the South Florida Metroplex Project. No flight path changes are associated with this proposal.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Fort Lauderdale-Hollywood International Airport, FL, to reduce the potential for midair collisions and enhances the management of air traffic in the terminal area.

History

The FAA published a notice of proposed rulemaking for Docket No. FAA-2020-0988 in the Federal Register (86 FR 17333; April 2, 2021) proposing to modify the Fort Lauderdale-Hollywood International Airport, FL (FLL), Class C airspace area. Interested parties were invited to participate in this rulemaking effort by submitting written comments on the proposal. Two comments were received.

Class C airspace designations are published in paragraph 4000 of FAA Order JO 7400.11F, dated August 10, 2021, and effective September 15, 2021, which is incorporated by reference in 14 CFR part 71.1. The Class C airspace designation listed in this document will be published subsequently in FAA Order JO 7400.11.

Correspondingly, the Class C airspace area, and the Class E airspace extension, in this document will subsequently be published in, or removed from, FAA Order JO 7400.11.

Discussion of Comments

The first commenter affirmed their support for the new airspace design. The second commenter, the Aircraft Owners and Pilots Association (AOPA), expressed four concerns about the proposal as discussed below.¹

¹ AOPA submitted its comments directly to the FAA. The FAA placed AOPA's comments into the docket on January 25, 2022.

First, AOPA acknowledged FAA's action to improve the availability of Visual Flight Rules (VFR) flight following in the Miami Class B airspace, and the FLL Class C airspace areas, but stated that recent feedback from members indicated that VFR flight following can still be difficult to obtain particularly as “FAA has indicated they are not able to provide a VFR corridor through this airspace.”

The current coronavirus (COVID-19) pandemic has impacted air traffic controller training and staffing which, at times, has limited the services controllers can provide to VFR aircraft due to workload. Within Miami Terminal Radar Approach Control (TRACON), training is resuming and staffing is returning to normal levels which will assist in creating additional opportunities to obtain/provide services to VFR aircraft when airborne. As a suggestion, VFR pilots wishing to receive air traffic control (ATC) services are encouraged to consider obtaining a VFR discreet transponder code from ATC prior to departure.

Second, AOPA stated that the ceiling of the Class D airspace areas should be consistent with the floor of the overlying Class B or C airspace as there “needs to be more consistency to these altitudes and [AOPA] continue[s] to have concerns that this complexity could result in unintentional airspace violations.”

This rule establishes a new Area F north of FLL with a floor of 2,500 feet mean sea level (MSL). With regard to the FLL Class C airspace, the 1,200-foot MSL floor within the outer 10 nautical mile (NM) ring of the current Class C airspace design overlaps portions of the Fort Lauderdale Executive (FXE) Airport, and the Pompano Beach Airport (PMP), Class D airspace areas which both have ceilings at 2,500 feet MSL. Area F overlies portions of the FXE and PMP Class D airspace areas. The 2,500-foot floor of Area F is consistent with the 2,500-foot ceilings of the two underlying Class D airspace areas.

Third, AOPA restated its preference for the establishment of a VFR corridor through the MIA Class B airspace but expressed satisfaction that the FAA is considering the development of a VFR transition route as an alternative.

The FAA considered a VFR corridor but determined it is not feasible with current MIA area air traffic operations. As described in the Aeronautical Information Manual (AIM), VFR corridors are, in effect, a “hole” through Class B airspace in which aircraft can operate without an ATC clearance or communication with ATC. Considering local constraints, including traffic volume and traffic flows, plus the close proximity of numerous airports in the MIA area, a VFR corridor could not be established for operational and flight safety reasons.

As an alternative, the FAA designed and implemented VFR Transition Routes which became effective beginning with the February 25, 2021, aeronautical charting cycle. The routes currently are depicted on the Miami VFR Terminal Area Chart (TAC), and the Miami/South Florida VFR Flyway Planning Chart. These transition routes traverse both the MIA Class B, and the FLL Class C airspace areas, generally in north and south directions. An ATC clearance is required to fly these routes. Notes are placed on the charts to identify the routes and provide radio frequencies and altitudes to expect. Operationally, although access to the transition routes is based on controller workload, it does provide more flexibility for both controllers and pilots.

Fourth, AOPA called for the formation of a new Ad Hoc Committee to evaluate the Class B airspace changes proposed in the NPRM due to the lapse in time from the original Ad Hoc Committee and complexities as the changes.

The FAA considered the request for a second Ad Hoc Committee. After studying the recommendations from the previous Committee, and the public comments from the Informal Airspace Meetings, the FAA made a number of changes to the Class B design and published an NPRM for additional public comment. The FAA believes that sufficient feedback was received to proceed with rulemaking, and therefore decided not to form a second Ad Hoc Committee. Moreover, the public was provided with an opportunity to submit comments in response to the NPRM.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by modifying the FLL Class C airspace area to expand the lateral dimensions to the east and west of the airport, and lower some airspace floors to enhance safety in the Fort Lauderdale terminal area (see the attached chart).

The current FLL Class C airspace area consists of two concentric circles centered on the airport reference point: (1) that airspace extending upward from the surface to 4,000 feet MSL within a 5 NM radius of the airport; and (2) that airspace extending upward from 1,200 feet MSL to 4,000 feet MSL within a 10 NM radius of the airport (excluding the airspace within the adjacent Miami Class B airspace area).

This action updates the FLL airport reference point coordinates to read “lat. 26°04′18″ N, long. 80°08′59″ W” which matches the latest information in the Airport Master Records file. In addition, this rule reconfigures the Class C airspace area from the traditional two concentric circles design, to a more rectangular shape consisting of seven sub-areas identified by the letters A though G. The lateral foot print of the area is expanded to the east and west, but the current 4,000-foot MSL ceiling of the Class C airspace area is retained. In developing these modifications, the FAA has considered the input received from the Ad Hoc Committee, the informal airspace meetings, and the NPRM. The airspace modifications are described below.

Area A. Area A extends from ground level upward to 4,000 feet MSL. The lateral dimension of Area A is expanded from the current 5 NM radius of FLL, to a 7 NM radius of the airport. It is bounded on the north by lat. 26°10′03″ N (the eastern most portion of Oakland Park Boulevard located in Lauderdale Beach); and bounded on the south by a 15 NM radius of the Miami International Airport; and on the southeast by lat. 26°00′39″ N (the eastern most portion of Hollywood Boulevard located in Hollywood).

Setting the northern boundary of Area A along lat. 26°10′03″ N allows Fort Lauderdale Executive Airport (FXE) to continue using south downwind departures from FXE airport and returns most of the FXE Class D airspace area altitudes to FXE airport traffic control tower (ATCT) for their use. The new southeastern boundary of Area A provides more room for aircraft departing North Perry Airport (HWO) and Opa Locka Executive Airport (OPF) to transition to the east overwater.

Area B. Area B, located west of Area A, extends upward from 1,200 feet MSL to 4,000 feet MSL. It is bounded on the north by lat. 26°10′03″ N; on the west by State Road 869/Sawgrass Expressway, Interstate 595 and Interstate 75; on the south by the 15 NM radius of Miami International Airport; and on the east by the 7 NM radius of FLL (the western boundary of Area A). Aligning the boundaries with reference to existing major roadways give VFR pilots better visual references for determining the airspace boundaries.

Area C. Area C is located at the western end of the Class C expansion. It extends upward from 3,000 feet MSL to 4,000 feet MSL. Area C is bounded on the north by lat. 26°13′53″ N (aligned with the eastern portion of Atlantic Boulevard located in Pompano Beach) (which is also the new northern boundary of FLL Class C airspace area); on the west by the 25 NM radius of FLL; on the south by lat. 25°57′48″ N; on the southeast by the 15 NM radius of MIA; and on the east by U.S. Route 27. Route 27 was selected as the eastern boundary based on suggestions that visual references be used to provide better situational awareness for VFR pilots.

Area D. Area D is located at the eastern end of the Class C expansion. It extends upward from 3,000 feet MSL to 4,000 feet MSL. It is bounded on the north by lat. 26°13′53″ N (aligned with the eastern portion of Atlantic Boulevard located in Pompano Beach); on the east by the 25 NM radius of FLL; on the south by lat. 26°00′39″ N (the eastern most portion of Hollywood Boulevard located in Hollywood); and on the west by the 20 NM radius of FLL. Area D forms the eastern most section of the FLL Class C airspace area. In the original design, the Class C floor in Area D was proposed to be 2,500 feet MSL. To accommodate concerns, the floor is raised to 3,000 feet MSL to give VFR pilots a little more room to transition beneath the area.

Area E. Area E extends upward from 1,500 feet MSL to 4,000 feet MSL. It is bounded on the north by lat. 26°10′03″ N (the eastern most portion of Oakland Park Boulevard located in Lauderdale Beach); on the east by the north-south portion of Interstate I-75 and State Road 869/Sawgrass Expressway; on the south by the 15 NM radius of MIA; and on the west by U.S. Route 27. Area E is located between Areas B and C.

A goal of the design of Area E is to resolve an issue caused by the configurations of the current MIA Class B airspace and the FLL Class C airspace areas. A gap, approximately 4-5 NM wide, exists in the airspace between the current 10 NM radius of FLL's Class C airspace (to the west of the airport), and the existing MIA Class B airspace area to the northwest of MIA (in the vicinity of U.S. Route 27). VFR aircraft that are not in communication with ATC frequently transit this gap and are climbing or descending through the final approach courses and the downwind legs for FLL arrivals to runways 10L/10R. The redesign of Area E is intended to close this gap to enhance safety for both FLL traffic and the transiting VFR aircraft. The original proposal set the Class C airspace floor in this area at 1,200 feet MSL. Due to concerns about restricting VFR aircraft transiting the area, the Area E floor is raised to 1,500 feet MSL to give VFR aircraft more room to transition north and south. The use of existing major roadways to mark the boundaries gives VFR pilots better situational awareness of the lateral confines of Area E.

Area F. Area F extends upward from 2,500 feet MSL to 4,000 feet MSL. The area's boundaries begin at a point northwest of FLL where U.S. Route 27 intersects lat. 26°13′53″ N (aligned with the eastern portion of Atlantic Boulevard in Pompano Beach); thence moving east along lat. 26°13′53″ N to a point that intersects the 20 NM radius of FLL; thence moving clockwise along the 20 NM radius of FLL to a point that intersects lat. 26°00′39″ N; (the eastern most portion of Hollywood Boulevard located in Hollywood); thence moving west along lat. 26°00′39″ N to a point that intersects the 15 NM radius of FLL; thence moving counter-clockwise along the 15 NM radius of FLL to a point that intersects lat. 26°10′03″ N (the eastern most portion of Oakland Park Boulevard located in Lauderdale Beach); thence moving west along lat. 26°10′03″ N to a point that intersects U.S. route 27; thence moving north along U.S. Route 27 to the point of beginning. Area F forms the northern shelf of the FLL Class C airspace area, running east and west between areas C and D, as well as a north/south segment running between Areas G and D.

In the current FLL Class C airspace configuration, the floor of Class C airspace over FXE is 1,200 feet MSL. This 1,200-foot floor extends right up to Pompano Beach Airpark (PMP). With the addition of Area F, the Class C airspace floor is raised to 2,500 feet MSL over FXE, and the northern boundary of Class C airspace is moved farther to the south of PMP and aligned with the eastern portion of Atlantic Boulevard. This 2,500-foot MSL Class C airspace shelf over FXE, and southward relocation of the northern Class C airspace boundary to be aligned with Atlantic Boulevard, provides a number of benefits, including: the use of visual references to identify airspace boundaries; better access for VFR pilots to the FXE and PMP areas; additional room below Class C airspace to accommodate downwind departures from FXE; better access for the flight schools based at FXE and PMP to airspace that is regularly used for flight training; and providing FXE and PMP ATCTs access to more altitudes within their respective Class D airspace areas.

Area G. Area G extends upward from 1,200 feet MSL to 4,000 feet MSL. The area boundaries begin at a point northeast of FLL where the 7 NM radius of FLL intersects lat. 26°10′03″ N (the eastern most portion of Oakland Park Boulevard located in Lauderdale beach); thence moving clockwise along the 7 NM radius of FLL to a point that intersects lat. 26°00′39″ N (the eastern most portion of Hollywood Boulevard located in Hollywood); thence moving east along lat. 26°00′39″ N to a point that intersects the 15 NM radius of FLL; thence moving counterclockwise along the 15 NM radius of FLL to a point that intersects lat. 26°10′03″ N; thence moving west along lat. 26°10′03″ N to the point of beginning. Area G is located between Areas A and F.

In addition, this action removes the Class E airspace extension to the FLL Class C airspace surface area. The expansion of Area A from the current 5 NM radius, to a 7 NM radius, incorporates the airspace in the Class E extension into the Class C surface area thereby rendering the extension unnecessary.

FAA Order JO 7400.11, Airspace Designations and Reporting Points, is published yearly and effective on September 15th.

Since this action involves, in part, the designation of navigable airspace outside the United States, the Administrator consulted with the Secretary of State and the Secretary of Defense in accordance with the provisions of Executive Order 10854.

Paperwork Reduction Act

The Paperwork Reduction Act of 1995 (44 U.S.C. 3507(d)) requires that the FAA consider the impact of paperwork and other information collection burdens imposed on the public. The FAA has determined that there is no new information collection requirement associated with this final rule.

Regulatory Notices and Analyses

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $158,000,000, using the most current (2020) Implicit Price Deflator for the Gross Domestic Product. This portion of the preamble summarizes the FAA's analysis of the economic impacts of this rule.

In conducting these analyses, the FAA has determined that this rule: will have a minimal cost impact; is not an economically “significant regulatory action” as defined in section 3(f) of Executive Order 12866; will not have a significant economic impact on a substantial number of small entities; will not create unnecessary obstacles to the foreign commerce of the United States; and will not impose an unfunded mandate on State, local, or tribal governments, or on the private sector.

Regulatory Impact Analysis

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

In conducting these analyses, the FAA has determined that this final rule: (1) Is expected to have a minimal cost impact, (2) is not an economically “significant regulatory action” as defined in section 3(f) of Executive Order 12866, (3) is not significant under DOT's administrative procedure rule on rulemaking at 49 CFR 5.13; (4) not have a significant economic impact on a substantial number of small entities; (5) does not create unnecessary obstacles to the foreign commerce of the United States; and (6) does not impose an unfunded mandate on state, local, or tribal governments, or on the private sector by exceeding the threshold identified above. These analyses are summarized below.

As discussed above, the FAA determined that changes put forth in this rule will increase airspace safety and efficiency with minimal cost impact. The rule will reconfigure and expand the FLL Class C airspace. Despite significant increases in aircraft operations and passenger enplanements over the years, the FLL Class C airspace has not been modified since its inception in 1986. The current Class C airspace area is not sufficient to accommodate the volume of aircraft operations in the congested South Florida airspace, nor the traffic pattern required by the increasing numbers of turbojet operations at FLL. The benefits of the rule are to reduce the risk of midair collisions and increase efficiency of air traffic operations in the FLL terminals.

The discussion presented in this section reflects conditions that predate the coronavirus (COVID-19) pandemic in 2021. At the time of writing, there is uncertainty surrounding the timing of recovery and the long-term effects. To the extent that there are lingering or lasting changes to general aviation and air carrier operations, the benefits and costs of the FLL Class C airspace modification in this rule may vary relative to the level of future operations.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The final rule modifies Class C airspace around FLL. The change affects general aviation operators using the airspace at or near FLL. Operators flying VFR need to adjust their flight paths to avoid the modified Class C airspace. However, the modifications to Class C airspace are intended to be the least restrictive option while enhancing safety. Additionally, VFR operators can also use the current north-south charted VFR flyway below the 3,000-foot Class B floor to the west of MIA, which enables pilots to fly beneath the Class B, and east-west flyway below 2000 MSL located to the south of HWO, or to the north of Miami OPF. VFR pilots have the option to contact ATC at Miami TRACON or FLL ATCT, and request flight following, if desired. Therefore, as provided in section 605(b), the head of the FAA certifies that this rulemaking would not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it should improve safety and is consistent with the Trade Agreements Act.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in $100 million. This final rule does not contain such a mandate; therefore, the requirements of Title II of the Act do not apply.

Environmental Review

The FAA has determined that this action of (1) reconfiguring and expanding the Fort Lauderdale-Hollywood International Airport, FL (FLL), Class C airspace area and, (2) updating the FLL Airport Reference Point (ARP) latitude/longitude geographic coordinates to match current airspace database information, and (3) revoking the Class E airspace extension to the FLL Class C airspace surface area qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

Lists of Subjects in 14 CFR Part 71

Airspace, Incorporation by reference, Navigation (Air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, effective September 15, 2021, is amended as follows:

Paragraph 4000 Class C Airspace.

* * * * *

ASO FL C Fort Lauderdale-Hollywood International Airport, FL

Fort Lauderdale-Hollywood International Airport, FL

(Lat. 26°04′18″ N, long. 80°08′59″ W)

Boundaries

Area A. That airspace extending upward from the surface to and including 4,000 feet MSL within a 7 nautical mile radius of Fort Lauderdale-Hollywood International Airport, excluding the airspace north of lat. 26°10′03″ N (the eastern most portion of Oakland Park Boulevard located in Lauderdale Beach), and bounded on the south by a 15 nautical mile radius of Miami International Airport, and on the southeast by lat. 26°00′39″ N (the eastern most portion of Hollywood Boulevard located in Hollywood).

Area B. That airspace extending upward from 1,200 feet MSL to and including 4,000 feet MSL beginning at a point northwest of Fort Lauderdale-Hollywood International Airport at the intersection of a 7 nautical mile radius of Fort Lauderdale-Hollywood International Airport and lat. 26°10′03″ N, thence moving west along lat. 26°10′03″ N (the eastern most portion of Oakland Park Boulevard located in Lauderdale Beach), to a point that intersects State Road 869/Sawgrass Expressway, thence moving south along State Road 869/Sawgrass Expressway, [continuing south across the intersection of State Road 869/Sawgrass Expressway, Interstate 595, and Interstate 75], and continuing south along Interstate 75 to a point that intersects a 15 nautical mile radius of Miami International Airport, thence moving clockwise along the 15 nautical mile radius to a point that intersects the 7 nautical mile radius of Fort Lauderdale-Hollywood International Airport, thence moving clockwise along the 7 nautical mile radius to the point of beginning.

Area C. That airspace extending upward from 3,000 feet MSL to and including 4,000 feet MSL within an area bounded on the north by lat. 26°13′53″ N (aligned with the eastern portion of Atlantic Boulevard located in Pompano Beach), on the west by a 25 nautical mile radius of Fort Lauderdale-Hollywood International Airport, on the south by lat. 25°57′48″ N, on the southeast by a 15 nautical mile radius of Miami International Airport, and on the east by U.S. Route 27.

Area D. That airspace extending upward from 3,000 feet MSL to and including 4,000 feet MSL within an area bounded on the north by lat. 26°13′53″ N (aligned with the eastern portion of Atlantic Boulevard located in Pompano Beach), on the east by a 25 nautical mile radius of Fort Lauderdale-Hollywood International Airport, on the south by lat. 26°00′39″ N (the eastern most portion of Hollywood Boulevard located in Hollywood), and on the west by a 20 nautical mile radius of Fort Lauderdale-Hollywood International Airport.

Area E. That airspace extending upward from 1,500 feet MSL to and including 4,000 feet MSL within an area bounded on the north by lat. 26°10′03″ N (the eastern most portion of Oakland Park Boulevard located in Lauderdale Beach), on the east by the north-south portion of Interstate 75 and State Road 869/Sawgrass Expressway, on the south by a 15 nautical mile radius of Miami International Airport, and on the west by U.S. Route 27.

Area F. That airspace extending upward from 2,500 feet MSL to and including 4,000 feet MSL beginning northwest of Fort Lauderdale-Hollywood International Airport at a point that intersects U.S. Route 27 and lat. 26°13′53″ N (aligned with the eastern portion of Atlantic Boulevard located in Pompano Beach), thence moving east along lat. 26°13′53″ N to a point that intersects a 20 nautical mile radius of Fort Lauderdale-Hollywood International Airport, thence moving clockwise along the 20 nautical mile radius to a point that intersects lat. 26°00′39″ N (the eastern most portion of Hollywood Boulevard located in Hollywood), thence moving west to a point that intersects a 15 nautical mile radius of Fort Lauderdale-Hollywood International Airport, thence moving counter-clockwise along the 15 nautical mile radius to a point that intersects lat. 26°10′03″ N (the eastern most portion of Oakland Park Boulevard located in Lauderdale Beach), thence moving west along lat. 26°10′03″ N to a point that intersects U.S. Route 27, thence moving north along U.S. Route 27 to the point of beginning.

Area G. That airspace extending upward from 1,200 feet MSL to and including 4,000 feet MSL beginning northeast of Fort Lauderdale-Hollywood International Airport at a point that intersects a 7 nautical mile radius of Fort Lauderdale-Hollywood International Airport and lat. 26°10′03″ N (the eastern most portion of Oakland Park Boulevard located in Lauderdale Beach), thence moving clockwise along the 7 nautical mile radius to a point that intersects lat. 26°00′39″ N (the eastern most portion of Hollywood Boulevard located in Hollywood), thence moving east along lat. 26°00′39″ N to a point that intersects a 15 nautical mile radius of Fort Lauderdale-Hollywood International Airport, thence moving counter-clockwise along the 15 nautical mile radius to a point that intersects lat. 26°10′03″ N, thence moving west along lat. 26°10′03″ N to the point of beginning.

* * * * *

Paragraph 6003 Subpart E—Class E Airspace Areas Designated as an Extension to a Class C Surface Area.

* * * * *

ASO FL E3 Fort Lauderdale, FL [Remove]

* * * * *

BILLING CODE 4910-13-P

Issued in Washington, DC, on June 3, 2022.
Scott M. Rosenbloom,
Manager, Airspace Rules and Regulations.

[FR Doc. 2022-12301 Filed 6-9-22; 8:45 am]

BILLING CODE 4910-13-C